FEDERAL TRADE COMMISSION

Division of Consumer and Business Education; Agency Information Collection Activities: Proposed Collection; Comment Request; Generic Clearance for the Collection of Qualitative Feedback on Agency Service Delivery

AGENCY: Federal Trade Commission (“FTC” or “Commission”).

ACTION: 30-Day notice of submission of information collection approval from the Office of Management and Budget (“OMB”) and request for comments.

SUMMARY: As part of a Federal Government-wide effort to streamline the process to seek feedback from the public on service delivery, the FTC is submitting a Generic Information Collection Request (Generic ICR): “Generic Clearance for the Collection of Qualitative Feedback on Agency Service Delivery” to OMB for approval under the Paperwork Reduction Act.

DATES: Comments must be submitted May 15, 2017.

ADDRESSES: Interested parties may file a comment online or on paper, by following the instructions in the Request for Comment part of the SUPPLEMENTARY INFORMATION section below. Write “FTC Generic Clearance ICR, Project No. P035201” on your comment, and file your comment online at https://ftcpublic.commentworks.com/ftc/genericclearance by following the instructions on the web-based form. If you prefer to file your comment on paper, mail your comment to the following address: Federal Trade Commission, Office of the Secretary, 600 Pennsylvania Avenue NW., Suite CC-5610 (Annex J), Washington, DC 20580, or deliver your comment to the following address: Federal Trade Commission, Office of the Secretary, Constitution Center, 400 7th Street SW., 5th Floor, Suite 5610 (Annex J), Washington, DC 20024.

FOR FURTHER INFORMATION CONTACT: To request additional information, please contact Bridget Small at 202-326-3266.

SUPPLEMENTARY INFORMATION:

Title: Generic Clearance for the Collection of Qualitative Feedback on Agency Service Delivery

Abstract: The information collection activity will garner qualitative customer and stakeholder feedback in an efficient, timely manner, in accordance with the Administration's commitment to improving service delivery. By qualitative feedback we mean information that provides useful insights on perceptions and opinions, but are not statistical surveys that yield quantitative results that can be generalized to the population of study. This feedback will provide insights into customer or stakeholder perceptions, experiences and expectations, provide an early warning of issues with service, or focus attention on areas where communication, training or changes in operations might improve delivery of products or services. These collections will allow for ongoing, collaborative and actionable communications between the Agency and its customers and stakeholders. It will also allow feedback to contribute directly to the improvement of program management.

Feedback collected under this generic clearance will provide useful information, but it will not yield data that can be generalized to the overall population. This type of generic clearance for qualitative information will not be used for quantitative information collections that are designed to yield reliably actionable results, such as monitoring trends over time or documenting program performance. Such data uses require more rigorous designs that address: The target population to which generalizations will be made, the sampling frame, the sample design (including stratification and clustering), the precision requirements or power calculations that justify the proposed sample size, the expected response rate, methods for assessing potential non-response bias, the protocols for data collection, and any testing procedures that were or will be undertaken prior fielding the study. Depending on the degree of influence the results are likely to have, such collections may still be eligible for submission for other generic mechanisms that are designed to yield quantitative results.

The FTC received one responsive comment ¹ in reply to the 60-day notice published in the Federal Register on January 30, 2017 (82 FR 8755). The commenter pointed to several issues that may arise when conducting small group or focus group discussions. When it conducts these groups, the FTC works with experienced professional moderators who are familiar with, and prepared for, the potential hazards of small group dynamics. The FTC is aware that small group discussions don't necessarily reflect public opinion in general, but they can be illuminating and help us understand specific people's experiences and opinions. The FTC encourages these skilled moderators to engage group members and help it learn others' perspectives. That way, the FTC can adjust and improve service as needed.

¹ Douglas Waterman, University of Idaho. https://www.ftc.gov/policy/public-comments/initiative-694.

Below are the FTC's projected average annual estimates for the next three years:

Current Actions: New collection of information.

Type of Review: New collection.

Affected Public: Individuals and Households, Businesses and Organizations, State, Local or Tribal Government.

Average Expected Annual Number of Activities: 39.

Respondents: 2,680.²

² Projected activities: (1) Three customer satisfaction surveys per year of 500 respondents each and one customer satisfaction survey per year of 800 respondents each (surveys to get feedback about major campaigns, publications, Web sites, branding and other consumer and business education products to test their appeal and effectiveness), .25 hours (i.e. 15 minutes) per response; (2) Twenty focus groups per year, 10 respondents each (to test education products and Web sites), 2 hours per response; and (3) Fifteen usability sessions per year, 12 respondents per Web site (to test the usability of FTC Web sites by inviting people to complete common tasks on those sites), 1 hour per response. These estimates reflect an increase from those the FTC published in the associated prior Federal Register Notice of January 30, 2017. The current projected estimates more accurately reflect the FTC's assessment of potential needs to reach audiences in different ways.

Frequency of Response: Once per request.

Annual Responses: 2,680.

Average Minutes per Response: 26 (rounded to nearest whole minute).

Burden Hours: 1,155.

An agency may not conduct or sponsor, and a person is not required to respond to, a collection of information unless it displays a currently valid OMB control number. The control number for the existing clearance (expiring April 30, 2017) is 3084-0159. The FTC seeks renewed three-year clearance under this control number for the prospective collection of information and the associated burden estimates.

Request for Comment

You can file a comment online or on paper. For the FTC to consider your comment, we must receive it on or before May 15, 2017. Write “FTC Generic Clearance ICR, Project No. P035201” on your comment. Your comment—including your name and your state—will be placed on the public record of this proceeding, including, to the extent practicable, on the public Commission Web site, at https://www.ftc.gov/policy/public-comments. As a matter of discretion, the Commission tries to remove individuals' home contact information from comments before placing them on the Commission Web site.

Postal mail addressed to the Commission is subject to delay due to heightened security screening. As a result, we encourage you to submit your comments online, or to send them to the Commission by courier or overnight service. To make sure that the Commission considers your online comment, you must file it at https://ftcpublic.commentworks.com/ftc/genericclearancepra2 by following the instructions on the web-based form. If this Notice appears at http://www.regulations.gov/#!home, you also may file a comment through that Web site.

If you file your comment on paper, write “FTC Generic Clearance ICR, Project No. P035201” on your comment and on the envelope, and mail or deliver it to the following address: Federal Trade Commission, Office of the Secretary, 600 Pennsylvania Avenue NW., Suite CC-5610 (Annex J), Washington, DC 20580, or deliver your comment to the following address: Federal Trade Commission, Office of the Secretary, Constitution Center, 400 7th Street SW., 5th Floor, Suite 5610 (Annex J), Washington, DC 20024. If possible, submit your paper comment to the Commission by courier or overnight service.

Comments on any proposed information collection requirements subject to review under the PRA should additionally be submitted to OMB. If sent by U.S. mail, they should be addressed to Office of Information and Regulatory Affairs, Office of Management and Budget, Attention: Desk Officer for the Federal Trade Commission, New Executive Office Building, Docket Library, Room 10102, 725 17th Street NW., Washington, DC 20503. Comments sent to OMB by U.S. postal mail, however, are subject to delays due to heightened security precautions. Thus, comments instead should be sent by facsimile to (202) 395-5806.

The FTC Act and other laws the Commission administers permit the collection of public comments to consider and use in this proceeding as appropriate. All timely and responsive public comments, whether filed in paper or electronic form, will be considered by the Commission, and will be placed on the public record—including the publicly accessible FTC Web site at www.ftc.gov—to the extent practicable. Any information that you place in the following fields on this form—“Title,” “First Name,” “Last Name,” “Organization Name,” “State,” “Postal Code,” “Country,” “Comments,” and “Attachment”—will be publicly available on the FTC Web site. Although filling out this comment form is voluntary, the fields marked with an asterisk are required in order for the FTC to fully consider your comment. Because your comment will be placed on the publicly accessible FTC Web site at www.ftc.gov, you are solely responsible for making sure that your comment does not include any sensitive or confidential information. In particular, your comment should not include any sensitive personal information, such as your or anyone else's Social Security Number; date of birth; driver's license number or other state identification number, or foreign country equivalent; passport number; financial account number; or credit or debit card number. You are also solely responsible for making sure that your comment does not include any sensitive health information, such as medical records or other individually identifiable health information. In addition, your comment should not include any “trade secret or any commercial or financial information which . . . is privileged or confidential”—as provided by Section 6(f) of the FTC Act, 15 U.S.C. 46(f), and FTC Rule 4.10(a)(2), 16 CFR 4.10(a)(2)—including in particular competitively sensitive information such as costs, sales statistics, inventories, formulas, patterns, devices, manufacturing processes, or customer names.

Once your comment has been posted on the public FTC Web site—as legally required by FTC Rule 4.9(b)—we cannot redact or remove your comment from the FTC Web site, unless you submit a confidentiality request that meets the requirements for such treatment under FTC Rule 4.9(c), and the General Counsel grants that request in accordance with the law and the public interest. Comments containing material for which confidential treatment is requested must be filed in paper form, must be clearly labeled “Confidential,” and must comply with FTC Rule 4.9(c). In particular, the written request for confidential treatment that accompanies the comment must include the factual and legal basis for the request, and must identify the specific portions of the comment to be withheld from the public record. See FTC Rule 4.9(c). As a matter of discretion, the FTC makes every effort to remove home contact information for individuals from the public comments it receives before placing those comments on the FTC Web site. More information, including other routine uses of comments permitted by the Privacy Act, may be found at https://www.ftc.gov/site-information/privacy-policy.

David C. Shonka,
Principal Deputy General Counsel.

[FR Doc. 2017-07485 Filed 4-12-17; 8:45 am]

BILLING CODE 6750-01-P